FEDERAL MARITIME COMMISSION

[Docket No. 02-16]

Golden Bridge International Inc.; Possible Violations of Sections 10(a)(1), 10(b)(2) and 19(a) of the Shipping Act of 1984; Notice of Investigation and Hearing

Notice is given that the Federal Maritime Commission (“Commission”) served an Order of Investigation and Hearing on Golden Bridge International Inc. (“Golden Bridge”) on November 6, 2002.

Golden Bridge is licensed by the Commission as an ocean transportation intermediary (“OTI”), and currently holds itself out as a non-vessel-operating common carrier (“NVOCC”). It appears that Golden Bridge may have obtained transportation for certain NVOCC cargoes which it misdescribed as to the commodity actually being shipped, resulting in it obtaining lower rates for its shipments than those rates and charges set forth in the applicable service contracts. It also appears that, on many shipments, Golden Bridge issued its own NVOCC bill of lading for shipments in which it acted as a common carrier in relation to its NVOCC customers, and charged and collected payment on the basis of the inaccurate or unpublished rates shown on its invoice issued at destination. It also appears that a large number of import shipments by Golden Bridge were transported prior to the time it had an effective OTI license or tariff rates for its NVOCC services.

This proceeding seeks to determine whether Golden Bridge violated sections 10(a)(1), 10(b)(2) or 19(a) of the Shipping Act of 1984 and, in the event violations are found, whether penalties should be assessed and, if so, in what amount; whether Golden Bridge's tariff(s) should be suspended; whether Golden Bridge's OTI license should be suspended or revoked; and whether a cease and desist order should be issued.

Any person having an interest in participating in this proceeding may a file petition for leave to intervene in accordance with Rule 72 of the Commission's rules of practice and procedure, 46 CFR 502.72.

Bryant L. VanBrakle,
Secretary.

[FR Doc. 02-28756 Filed 11-12-02; 8:45 am]

BILLING CODE 6730-01-P